DEPARTMENT OF HEALTH AND HUMAN SERVICES

National Institutes of Health

Proposed Collection; Comment Request; Generic Clearance for Partners and Customer Satisfaction Surveys

SUMMARY: In compliance with the requirement of section 3506(c)(2)(A) of the Paperwork Reduction Act of 1995, for opportunity for public comment on proposed data collection projects, the Center for Scientific Review (CSR), the National Institutes of Health (NIH) will publish periodic summaries of proposed projects to be submitted to the Office of Management and Budget for review and approval.

Proposed Collection: Title: Generic Clearance for Voluntary Partners and Customers Satisfaction Surveys: Extension.

The information collected in these surveys will be used by the Center for Scientific Review management and personnel: (1) To assess the quality of the modified operations and processes now used by CSR to review grant applications; (2) To assess the quality of service provided by CSR to our customers; (3) To enable identification of the most promising biomedical research that will have the greatest impact on improving public health by using a peer review process that is fair, unbiased from outside influence, timely, and (4) To develop new modes of operation based on customer need and customer feedback about the efficacy of implemented modifications. These surveys, which will be both quantitative and qualitative, are designed to assess the quality of services we provide to our major external customers. Customers include the research scientists who submit applications for grant funding to NIH. Those grant applications are reviewed and ranked by the grant scientific peer review study groups' members and chairs. These surveys will almost certainly lead to quality improvement activities that will enhance and/or streamline CSR's operations. Our partners include current grant scientific peer review study groups' members and chairs.

Frequency of Response: On occasion.

Affected Public: Scientific peer review study groups' members and chairs, grant

applicants, other members of the research community.

Type of Respondents: Adult scientific professionals.

Estimates of Annualized Hour Burden
[totals rounded off to the nearest hour]
Type of respondent | Number of respondents | Frequency of response | Average time per response (hr) | Total annual hour burden
Adult scientific professionals (via Mail/Telephone/Internet) | 5000 | 1 | 0.25 | 1250
Adult scientific professional (via focus groups) | 75 | 1 | 1 | 188
Total | 5075 | 1 |  | 1438

Request for Comments: Written comments and/or suggestions from the public and affected agencies are invited on one or more of the following points:

(1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact George Chacko, PhD. Center for Scientific Review, NIH, Room 3030, 6701 Rockledge Drive, Bethesda, MD 20892-7776, or call non-toll-free number 301-435-1133 or e-mail your request, including your address to: chackoge@csr.nih.gov.

Comments Due Date: Comments regarding this information collection are best assured of having their full effect if received within 60 days of the date of publication of the notice.

Dated: July 18, 2011.
George Chacko,
Director of Planning, Analysis, and Evaluation, Center for Scientific Review, National Institutes of Health.

[FR Doc. 2011-18617 Filed 7-21-11; 8:45 am]

BILLING CODE 4140-01-P